DEPARTMENT OF THE INTERIOR

Bureau of Land Management

[BLM-OR-FRN-MO4500170483]

Notice of Withdrawal Extension Application and Opportunity for Public Comment for the Halliday Fen Research Natural Area, Washington

AGENCY: Bureau of Land Management, Department of the Interior.

ACTION: Notice of withdrawal extension.

SUMMARY: The United States Department of Agriculture, United States Forest Service (USFS), has filed an application with the Bureau of Land Management (BLM) requesting that the Secretary of the Interior extend Public Land Order (PLO) No. 7614 for an additional 20 years. PLO No. 7614 withdrew 646.40 acres of National Forest System land from location and entry under the United States mining laws for 20 years, subject to valid existing rights, to protect the Halliday Fen Research Natural Area (RNA). This notice advises the public of a 90-day opportunity to comment on this application for a withdrawal extension and to request a public meeting.

DATES: Comments and requests for a public meeting must be received by December 28, 2023.

ADDRESSES: All comments and meeting requests should be sent to the BLM Oregon/Washington State Director, P.O. Box 2965, Portland, Oregon 97208. The application and case file are available for public examination by interested persons by appointment at the BLM Public Room, 1220 SW 3rd Ave., 11th Floor, Portland, Oregon 97208 during regular business hours 8:00 a.m. to 4:30 p.m., Monday through Friday except holidays. Please call 503-808-6001 to make an appointment.

FOR FURTHER INFORMATION CONTACT: Luke Poff, Realty Specialist, BLM Oregon/Washington State Office, (503) 808-6249, by email at lpoff@blm.gov, or at the address noted earlier. The USFS can be reached at the Colville National Forest Supervisor's Office, 765 South Main St., Colville, Washington 99114, (509) 684-7000. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: PLO No. 7614 (69 FR 55448) withdrew 646.40 acres of National Forest System land in the Colville National Forest from location and entry under the United States mining laws for 20 years, subject to valid existing rights, to protect the RNA. The RNA preserves the unique characteristics, sensitive fauna, hydrology, and research values of the area, which includes a marl fen, western red cedar and western hemlock forests, and habitat for a variety of rare plant and animal species. The RNA is also within the Salmo Priest Grizzly Bear Management Unit, which is part of the Selkirk Grizzly Bear Recovery Zone in Pend Oreille County, Washington. This notice also revises the legal land description and acreage figure from the 646.40 acres stated in PLO No. 7614 to 646.37 acres. Unless further extended, the withdrawal will expire on September 9, 2024.

The legal land description and acreage figure written in PLO No. 7614 is revised to reflect the BLM Cadastral Survey's Specification for Descriptions of Land. The revised land description does not change the footprint of the lands withdrawn, which is as follows:

Colville National Forest

Willamette Meridian

T. 40 N., R. 44 E.,

Sec. 31, W½NE¼, SE¼NE¼, SE¼NW¼, E½SW¼, and NW¼SE¼.

Together with portions of the following lands as specifically identified and described by metes and bounds in the “Boundary Description for Halliday Fen Research Natural Area to be Withdrawn from Mineral Location” dated April 19, 2002, in the official records of the BLM Oregon/Washington State Office and the Colville National Forest Office, Colville, Washington:

T. 39 N., R. 43 E.,

Sec. 1, lot 1.

T. 40 N., R. 43 E.,

Sec. 36, E½SE¼.

T. 39 N., R. 44 E.,

Sec. 6, lots 2 thru 5, and SE¼NW¼.

T. 40 N., R. 44 E.,

Sec. 30, SE¼SW¼, NW¼SE¼, and S½SE¼;

Sec. 31, lots 1 thru 4, NE¼NE¼, NE¼NW¼, NE¼SE¼, and S½SE¼;

Sec. 32, W½NW¼ and NW¼SW¼.

The areas described aggregate 646.37 acres.

The use of a right-of-way, interagency agreement, or cooperative agreement would not adequately preserve the unique resources located at this site. There are no suitable alternative sites since preserving the unique resource within the lands described in PLO No. 7614 is the reason for the application for withdrawal extension.

Comments will be available for public review. Before including your address, phone number, email address, or other personal identifying information in your comment, you should be aware that your entire comment—including your personally identifying information—may be made publicly available at any time. While you may ask the BLM in your comment to withhold your personal identifying information from public review, we cannot guarantee that we will be able to do so.

An opportunity for a public meeting may be afforded in connection with the application for withdrawal extension. All interested persons who desire a public meeting for the purpose of being heard on the application for this withdrawal extension must submit a written request to the State Director, BLM Oregon/Washington State Office at the address in the ADDRESSES section, within 90 days from the date of publication of this notice. If the authorized officer determines that a public meeting will be held, a notice of the date, time, and place will be published in the Federal Register and local newspapers and posted on the BLM website at: www.blm.gov at least 30 days before the scheduled date of the meeting. This withdrawal extension application will be processed in accordance with the regulations set forth in 43 CFR 2310.4.

(Authority: 43 U.S.C. 1714)

Dustin Webster-Wharton,
Branch Chief of Land, Mineral, and Energy Development, Bureau of Land Management, Oregon/Washington.

[FR Doc. 2023-21496 Filed 9-28-23; 8:45 am]

BILLING CODE 3411-15-P